DEPARTMENT OF COMMERCE

International Trade Administration

Announcement of Upcoming Secretary-Led Business Development Mission to Thailand, Indonesia, and Vietnam, November 3-8, 2019

AGENCY: International Trade Administration, Department of Commerce.

The United States Department of Commerce, International Trade Administration (ITA) is announcing an upcoming trade missions that will be recruited, organized, and implemented by ITA. The mission is:

• Secretary-Led Business Development Mission to Thailand, Indonesia, and Vietnam, November 3-8, 2019.

A summary of the mission is found below. Application information and more detailed mission information, including the commercial setting and sector information, can be found at the trade mission website: http://www.export.gov/IndoPacific2019.

For each mission, recruitment will be conducted in an open and public manner, including publication in the Federal Register, posting on the Commerce Department trade mission calendar (http://export.gov/trademissions) and other internet websites, press releases to general and trade media, direct mail, broadcast fax, notices by industry trade associations and other multiplier groups, and publicity at industry meetings, symposia, conferences, and trade shows.

The Following Conditions for Participation Will Be Used for This Mission

An applicant must sign and submit a completed application and supplemental application materials, including adequate information on the represented company's, or trade association members', products and/or services, primary market objectives, and goals for participation. If an incomplete application form is submitted or the information and material submitted does not demonstrate how the applicant satisfies the participation criteria, the Department of Commerce may reject the application, request additional information, or take the lack of information into account when evaluating the application.

Each applicant must:

• Identify whether the products and services it seeks to export through the mission are either produced in the United States, or, if not, marketed under the name of a U.S. firm and have at least 51 percent U.S. content. In cases where the U.S. content does not exceed 50 percent, especially where the applicant intends to pursue investment in major project opportunities, the following factors, may be considered in determining whether the applicant's participation in the Mission is in the U.S. national interest:

○ U.S. materials and equipment content;

○ U.S. labor content;

○ Contribution to the U.S. technology base, including conduct of research and development in the United States;

○ Repatriation of profits to the U.S. economy;

○ Potential for follow-on business that would benefit the U.S. economy;

• Certify that the export of their products and services is in compliance with U.S. export controls and regulations;

• Certify that it has identified to the Department of Commerce any business matter pending before any bureau or office in the Department of Commerce;

• Certify that it has identified any pending litigation (including any administrative proceedings) to which it is a party that involves the Departments of Commerce; and

• Certify that it and its affiliates (1) have not and will not engage in the bribery of foreign officials in connection with a company's/participant's involvement in this mission, and (2) maintain and enforce a policy that prohibits the bribery of foreign officials.

In the case of a trade association, the applicant must certify that each firm or service provider to be represented by the association can make the above certifications.

The Following Selection Criteria Will Be Used for This Mission

Selection will be based on the following criteria, listed in decreasing order of importance:

• Suitability of the company's products or services to the target markets and the likelihood of a participating company's increased exports or business interests in the target markets as a result of this mission;

• Consistency of the company's products or services with the scope and desired outcome of the mission's goals;

• Rank/seniority of the designated company representative;

• Current or pending major project/transaction/agreement/investment within the target markets and capacity to increase U.S. exports to the Indo-Pacific region; and

• Demonstrated export experience in the target markets and/or other foreign markets.

Trade association applicants will be evaluated based on how well the companies being represented by the organization satisfy the mission selection criteria.

The balance of entities participating in the mission with respect to type, size, location, sector or subsector may also be considered during the review process.

Referrals from political organizations and any information, including on the application, containing references to political contributions or other partisan political activities will be excluded from the application and will not be considered during the selection process. The sender will be notified of these exclusions.

Definition of Small and Medium Sized Enterprise

For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Secretary-Led Business Development Mission to Thailand, Indonesia, and Vietnam

DATES: November 3-8, 2019.

United States Secretary of Commerce Wilbur Ross will lead a Business Delegation to the Indo-Pacific Business Forum in Bangkok, Thailand and subsequently to Indonesia and Vietnam from November 3-8, 2019. This mission supports President Trump's goals of accelerating U.S. commercial activity in the region, supporting job-creating export opportunities for U.S companies, and meeting the region's needs for economic growth and development.

President Trump and the Administration remain committed to a free and open Indo-Pacific in which all nations are sovereign, strong, and prosperous. So too, this mission reflects the Secretary's strong commitment to catalyze United States private sector support of market-driven and sustainable infrastructure development around the world. The Secretary-Led Business Development Mission will promote a robust U.S. commercial presence in the Indo-Pacific region and will focus on supporting U.S. companies in the energy, infrastructure and digital economy sectors to launch or expand their business in the target markets.

In addition to the commercial goals, the delegation will also focus on advancing the President's Indo-Pacific Transparency Initiative to help partner countries combat corruption, promote rule of law, and strengthen governance institutions. Key elements of the mission will include business-to-government and business-to-business meetings, market briefings, and networking events.

Delegation members will also have the opportunity to participate in the 2nd Indo-Pacific Business Forum (IPBF) ¹ in Bangkok, Thailand on November 4, 2019. The IPBF is being organized by the U.S. Government, the U.S. Chamber of Commerce, the U.S.-ASEAN Business Council, the Royal Thai Government, and the Thai Chamber of Commerce. It will be held on the sidelines of the annual U.S.-ASEAN and East Asia Summits, which draw leaders from throughout the Indo-Pacific region. The IPBF will provide a unique opportunity to interact with senior U.S. and Indo-Pacific business and government leaders. The event will provide a venue to showcase major deal signings, new initiatives, and innovative American-made products and solutions. The IPBF will also highlight the United States private sector's continued profile as the partner of choice for trade and investment with this dynamic region.

¹ For additional information about the 2nd Indo-Pacific Business Forum, please visit www.uschamber.com/event/indo-pacific-business-forum.

Representatives of the Export-Import Bank of the United States (Ex-Im), the U.S. International Development Finance Corporation (DFC, formerly OPIC) and the U.S. Trade and Development Agency (USTDA) will participate in and support senior-level U.S. representation at the IPBF, and will provide information and counseling regarding their suites of programs and services on federal trade promotion and financing capabilities in these markets. This collaborative interagency approach highlights the shared interest among U.S. Government agencies in promoting Southeast Asia as a critical overseas market for U.S. products and services.

The business delegation will be composed of CEOs and senior executives from 12-25 U.S. firms, representing the mission's target sectors: energy, infrastructure and digital. Trade Associations with significant involvement or interests in the region will be considered.

Proposed Time Table
Saturday, November 2 | Travel to BANGKOK | • Welcome Dinner.
Sunday, November 3 | Bangkok, Thailand | • Business Development Mission Orientation.
Monday, November 4 | Bangkok, Thailand | • Indo-Pacific Business Forum. • Individual Company Business Appointments. • VIP Roundtable.
Tuesday, November 5 | Bangkok, Thailand Travel to JAKARTA | • Government Meetings.
Wednesday, November 6 | Jakarta, Indonesia | • Government Meetings. • Individual Company Business Appointments. • VIP Reception.
Thursday, November 7 | Jakarta, Indonesia Travel to HANOI
Friday, November 8 | Hanoi, Vietnam | • Government Meetings. • Individual Company Business Appointments. • Closing Dinner.

Participation Requirements

All companies interested in participating in the Secretarial Trade Mission to the Indo-Pacific must complete and submit an application package for consideration to the Department of Commerce. All applicants will be evaluated on their ability to meet certain conditions and best satisfy the selection criteria as outlined below. A minimum of 12 and a maximum of 25 companies will be selected to participate in the mission from the applicant pool.

Fees and Expenses

After a company has been selected to participate in the mission, a payment to the Department of Commerce in the form of a participation fee is required.

The fee schedule for the mission is below:

• $12,700 for large firms or trade associations

• $10,200 for a small or medium-sized enterprises (SMEs) ²

² An applicant is a small or medium-sized enterprise (SME) if it qualifies under the Small Business Administration's (SBA) size standards [https://www.sba.gov/document/support--table-size-standards], which vary by North American Industry Classification System (NAICS) Code. The SBA Size Standards Tool [https://www.sba.gov/size-standards/] can help you determine the qualifications that apply to your company.

• $1,500 additional representative (large firm, SME, or trade association—limit one additional representative per company)

Expenses for travel, lodging, meals, and incidentals will be the responsibility of each mission participant. Costs for participation in the 2nd IPBF in Bangkok, Thailand are not included in the trade mission fees. Interpreter and driver services for individual meetings and appointments can be arranged for additional costs. Delegation members will be able to take advantage of U.S. Embassy rates for hotel rooms. More detailed travel information and recommended providers will be provided once a company has confirmed participation.

Exclusions

The mission fee does not include any personal travel expenses such as lodging, most meals, local ground transportation, and air transportation from the United States to the mission sites, between mission sites, and return to the United States. Business visas may be required. Government fees and processing expenses to obtain such visas are also not included in the mission costs. However, the U.S. Department of Commerce will provide instructions to each participant on the procedures required to obtain necessary business visas.

Trade Mission members participate in the trade mission and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Timeframe for Recruitment and Applications

Mission recruitment will be conducted in an open and public manner, including publication in the Federal Register (http://www.gpoaccess.gov/fr), posting on ITA's business development mission calendar (http://export.gov/trademissions) and other internet websites, press releases to general and trade media, direct mail, broadcast fax, notices by industry trade associations and other multiplier groups, and publicity at industry meetings, symposia, conferences, and trade shows.

Recruitment will begin immediately and conclude no later than October 1, 2019. Applications should be completed online at the Mission website at https://www.export.gov/IndoPacific2019 or can be obtained by contacting the U.S. Department of Commerce Office of Business Liaison (202-482-1360 or BusinessLiaison@doc.gov).

The application deadline is Tuesday, October 1, 2019. Applications received after Tuesday, October 1, 2019, will be considered only if space and scheduling constraints permit. The Department of Commerce will evaluate all applications and inform applicants of selection decisions no later than October 16, 2019.

How To Apply

Applications can be downloaded from the business development mission website (http://www.export.gov/IndoPacific2019) or can be obtained by contacting the Office of Business Liaison (see below).

Contacts

General Information and Applications:

United States Department of Commerce, Office of Business Liaison, 1401 Constitution Avenue NW, Room 5062, Washington, DC 20230, Tel: 202-482-1360, Fax: 202-482-4054, Email: BusinessLiaison@doc.gov

International Trade Administration, Office of Southeast Asia, Ian Clements, Acting Director, Southeast Asia, Email: ian.clements@trade.gov

Tiara Hampton-Diggs,
Program Specialist, Trade Promotion Programs.

[FR Doc. 2019-20664 Filed 9-23-19; 8:45 am]

BILLING CODE 3510-DR-P